SOCIAL SECURITY ADMINISTRATION

The Ticket to Work and Work Incentives Advisory Panel Meeting

AGENCY: Social Security Administration (SSA).

ACTION: Notice of meeting.

DATES: May 14, 2002, 10 a.m.-5:30 p.m.; May 15, 2002, 9 a.m.-5:30 p.m.; May 16, 2002, 9 a.m.-5:30 p.m.

ADDRESSES: Hilton New York (Rockefeller Plaza), 1335 Avenue of the Americas, (53rd to 54th Streets), New York, NY 10019-6078. Phone: (212) 586-7000. Fax: (212) 315-1374.

SUPPLEMENTARY INFORMATION:

Type of meeting: This is a quarterly meeting open to the public. The public is invited to participate by coming to the address listed above. Public comment will be taken during the quarterly meeting. The public is also invited to submit comments in writing on the implementation of the Ticket to Work and Work Incentives Improvement Act (TWWIIA) of 1999 at any time.

Purpose: In accordance with section 10(a)(2) of the Federal Advisory Committee Act, the Social Security Administration (SSA) announces a meeting of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the meeting. The Panel will use the meeting time to receive briefings, hear presentations, conduct full Panel deliberations on the implementation of TWWIIA and receive public testimony. The focus of this meeting will be on youth with disabilities and their transition from school to employment and/or post-secondary education.

The Panel will meet in person commencing on Tuesday, May 14, 2002 from 10 a.m. to 5:30 p.m.; Wednesday, May 15, 2002 from 9 a.m. to 5:30 p.m.; and Thursday, May 16, 2002 from 9 a.m. to 5:30 p.m.

Agenda: The Panel will hold a quarterly meeting. Briefings, presentations, full Panel deliberations and other Panel business will be held Tuesday, Wednesday, and Thursday, May 14, 15, and 16, 2002. Public testimony will be heard in person Tuesday, May 14, 2002 from 11 a.m. to 12 noon and on Wednesday May 15, 2002 from 2 p.m. to 3:30 p.m. The Panel is particularly interested in hearing public comment on youth with disabilities and their transition to employment and/or post-secondary education. Members of the public must schedule a timeslot in order to comment. In the event that the public comments do not take up the scheduled time period for public comment, the Panel will use that time to deliberate and conduct other Panel business.

Individuals interested in providing testimony in person should contact the Panel staff as outlined below to schedule time slots. Each presenter will be called on by the Chair in the order in which they are scheduled to testify and is limited to a maximum five-minute verbal presentation. Full written testimony on TWWIIA Implementation, no longer than 5 pages, may be submitted in person or by mail, fax or email on an on-going basis to the Panel for consideration.

Since seating may be limited, persons interested in providing testimony at the meeting should contact the Panel staff by e-mailing Kristen M. Breland, at kristen.m.breland@ssa.gov or calling (202) 358-6423.

The full agenda for the meeting will be posted on the Internet at http://www.ssa.gov/work/panel/ one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 400 Virginia Avenue, SW., Suite 700, Washington, DC, 20024.

• Telephone contact with Kristen Breland at (202) 358-6423.

• Fax at (202) 358-6440.

• E-mail to TWWIIAPanel@ssa.gov.

Dated: April 19, 2002.
Deborah M. Morrison,
Designated Federal Officer.

[FR Doc. 02-10289 Filed 4-24-02; 8:45 am]

BILLING CODE 4191-02-P